CORPORATION FOR NATIONAL AND COMMUNITY SERVICE

Renewal of a Currently Approved Information Collection

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed conference surveys of persons attending the annual National Conference on Volunteering. The surveys will be used to assess workshops, presenters, and the conference overall.

Copies of the information collection requests can be obtained by contacting the office listed in the addresses section of this notice.

DATES: Written comments must be submitted to the individual and office listed in the ADDRESSES section by March 24, 2008.

ADDRESSES: You may submit comments, identified by the title of the information collection activity, by any of the following methods: (1) By mail sent to: Corporation for National and Community Service, Department of Research and Policy Development; Attention Brooke Nicholas, Policy Analyst, 10th Floor; 1201 New York Avenue, NW., Washington, DC, 20525. (2) By hand delivery or by courier to the Corporation's mailroom at Room 8100 at the mail address given in paragraph (1) above, between 9 a.m. and 4 p.m. Monday through Friday, except Federal holidays. (3) By fax to: (202) 606-6627, Attention Brooke Nicholas, Policy Analyst. (4) Electronically through the Corporation's e-mail address system: bnicholas@cns.gov.

FOR FURTHER INFORMATION CONTACT: Brooke Nicholas, (202) 606-6627, or by e-mail at bnicholas@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Background

In partnership with the Points of Light Foundation, the Corporation for National and Community Service hosts an annual conference on volunteering. The conference encourages the volunteering community to share information and practices, learn new skills and establish relationships. Attendees include leaders from: Nonprofits and civic infrastructures, academic institutions, businesses and government agencies.

As a part of learning the extent in which we reached these objectives, we need to collect outcome data through four surveys that reveals: How well the conference compares with past conferences; what improvements have been made; and what are some suggestions for the future.

Current Action

Type of Review: New.

Agency: Corporation for National and Community Service.

Title: National Conference Survey.

OMB Number: None.

Frequency: Annual.

Affected Public: Individuals, community and faith-based organizations, non-profits, federal, international, state and local government, education institutions and businesses.

Number of Respondents: 4,000.

Estimated Time per Respondent: Fifteen minutes per survey (with four or more surveys).

Total Burden Hours: 4,000 hours.

Total Burden Cost (capital/startup): None.

Total Annual Cost (operating/maintaining systems or purchasing services): None.

Dated: January 16, 2008.
Bob Grimm,
Director, Department of Research and Policy Development.

[FR Doc. E8-1230 Filed 1-23-08; 8:45 am]

BILLING CODE 6050-$$-P